DEPARTMENT OF COMMERCE

International Trade Administration

[A-570-967]

Aluminum Extrusions From the People's Republic of China: Postponement of Final Determination of Sales at Less Than Fair Value

AGENCY: Import Administration, International Trade Administration, Department of Commerce.

DATES: Effective Date: November 29, 2010.

FOR FURTHER INFORMATION CONTACT: Paul Stolz or Lori Apodaca, 14th Street and Constitution Avenue, NW., Washington, DC 20230; telephone: (202) 482-4474 and (202) 482-4551, respectively.

Postponement of Final Determination

The Department of Commerce (“Department”) initiated the antidumping duty investigation of aluminum extrusions from the People's Republic of China (“PRC”) on April 27, 2010.¹ On November 12, 2010, the Department published the Preliminary Determination in the Federal Register.² The final determination of this antidumping duty investigation is currently due on January 10, 2011.

¹ See Aluminum Extrusions from the People's Republic of China: Initiation of Antidumping Duty Investigation, 75 FR 22109 (“Initiation Notice”).

² See Aluminum Extrusions from the People's Republic of China: Notice of Preliminary Determination of Sales at Less Than Fair Value, and Preliminary Determination of Targeted Dumping, 75 FR 69403 (November 12, 2010) (“Preliminary Determination”).

Section 735(a)(2) of the Tariff Act of 1930 (“the Act”) provides that a final determination may be postponed until not later than 135 days after the date of the publication of the preliminary determination if, in the event of an affirmative determination, a request for such postponement is made by exporters who account for a significant proportion of exports of the subject merchandise, or in the event of a negative preliminary determination, a request for such postponement is made by petitioner. In addition, 19 CFR 351.210(e)(2) requires that requests by respondents for postponement of a final determination be accompanied by a request for extension of provisional measures from a four-month period to not more than six months.

On November 1, 2010, Guang Ya Aluminium Industries Co., Ltd., Foshan Guangcheng Aluminium Co., Ltd., Kong Ah International Company Limited, and Guang Ya Aluminium Industries (Hong Kong) Limited, (collectively, “Guang Ya Group”), one of the entities comprising the sole active mandatory respondent in this investigation, requested an extension of the final determination and extension of the provisional measures.³ Thus, because the Preliminary Determination is affirmative, the respondent requesting extension of the final determination and extension of the provisional measures accounts for significant proportion of exports of the subject merchandise, and no compelling reasons for denial exist, we are extending the due date for the final determination in this investigation to no later than 135 days after the date of the publication of the preliminary determination.

³ See Aluminum Extrusions from the PRC: Request by Guang Ya Group for an Extension of the Final Determination (November 1, 2010). See also Preliminary Determination, finding that Guang Ya Group, Zhaoqing New Zhongya Aluminum Co., Ltd., Zhongya Shaped Aluminium (HK) Holding Limited and Karlton Aluminum Company Ltd., and Xinya Aluminum & Stainless Steel Product Co., Ltd. should be considered a single entity for purposes of this investigation.

For the reasons identified above, we are postponing the final determination until March 28, 2011.⁴

⁴ March 27, 2011, is 135 days after the date of the publication of the preliminary determination. However, because March 27, 2011, is a Sunday, we will postpone the due date to the next business day, Monday, March 28, 2011.

This notice is issued and published pursuant to sections 777(i) and 735(a)(2) of the Act and 19 CFR 351.210(g).

Dated: November 15, 2010.
Ronald K. Lorentzen,
Deputy Assistant Secretary for Import Administration.

[FR Doc. 2010-29874 Filed 11-26-10; 8:45 am]

BILLING CODE 3510-DS-P